DEPARTMENT OF THE INTERIOR

Fish and Wildlife Service

[FWS-R4-R-2015-N056: FXRS12650400000S3-123-FF04R02000]

Cahaba River National Wildlife Refuge, AL

AGENCY: Fish and Wildlife Service, Interior.

ACTION: Notice of availability; request for comments.

SUMMARY: We, the U.S. Fish and Wildlife Service (Service), announce the availability of a draft comprehensive conservation plan and environmental assessment (Draft CCP/EA) for Cahaba River National Wildlife Refuge (NWR) in Bibb County, Alabama for public review and comment. In this Draft CCP/EA, we describe the alternative we propose to use to manage this refuge for the 15 years following approval of the Final CCP.

DATES: To ensure consideration, we must receive your written comments by November 19, 2015.

ADDRESSES: You may obtain a copy of the Draft CCP/EA by downloading the document from our Internet Site at http://fws.gov/southeast/planning/PDFdocuments/cahaba-river-draft-ccp.pdf. Comments on the Draft CCP/EA may also be submitted to Sarah Clardy-Draft CCP Comments at P.O. Box 5087, Anniston, AL 36205 or by email to: cahabariverccp@fws.gov.

FOR FURTHER INFORMATION CONTACT: Ms. Sarah Clardy, Refuge Manager, Cahaba River NWR, P.O. Box 5087, Anniston, AL 36205; or cahabariverccp@fws.gov.

SUPPLEMENTARY INFORMATION:

Introduction

With this notice, we continue the CCP process for Cahaba River NWR started through a notice in the Federal Register on Tuesday, November 13, 2012 (77 FR 27526). For more about the refuge and our CCP process, please see that notice.

Cahaba River NWR was established in 2002 under the authority of the Cahaba River National Wildlife Refuge Establishment Act, Public Law 106-331, dated October 19, 2000. This legislation directed the Secretary of the Interior to acquire up to 3,500 acres of lands and waters to establish the refuge. In 2004, the Regional Director of the Service (Southeast Region) authorized the expansion of the acquisition boundary of the refuge to include an additional 340 acres of property at the confluence of the Cahaba and Little Cahaba Rivers. In 2006, Pub. Law 109-363 was signed by the President, authorizing further expansion of the acquisition boundary by 3,600 acres. In 2008, the Regional Director authorized a 360-acre expansion of the acquisition boundary. As of 2015, the refuge has an approved acquisition boundary of 7,784 acres of which 3,689.63 acres have been acquired in fee-title in Bibb County.

The refuge was established to: (1) Conserve, enhance, and restore the native aquatic and terrestrial community characteristics of the Cahaba River (including associated fish, wildlife, and plant species); (2) conserve, enhance, and restore habitat to maintain and assist in the recovery of plants and animals that are listed under the Endangered Species Act of 1973; (3) provide opportunities for compatible wildlife-dependent recreation; and (4) facilitate partnerships among the Service, local communities, conservation organizations, and other non-Federal entities to encourage participation in the conservation of the refuge's resources.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Priority resource issues addressed in the Draft CCP/EA include: Fish and Wildlife Populations, Habitat Management, Resource Protections, Visitor Services, and Refuge Administration.

CCP Alternatives, Including Our Proposed Alternative

We developed three alternatives for managing the refuge (Alternatives A, B, and C), with Alternative B as our proposed alternative. A full description of each alternative is in the Draft CCP/EA. We summarize each alternative below.

Alternative A: Current Management—No Action

Wildlife and Habitat Management

There would be no management of riverine and Cahaba lily/water willow shoals habitats and exotic aquatic plants and Beaver Pond would not be managed.

There would be no management of the following habitats: Beech, oak, laurel and azalea forest; Cahaba riverwash herbaceous vegetation; canebrake; oak, beech and sedge forest; oak, hickory, and iris forest; oak, holly, and sparkleberry forest; and tuliptree and sensitive fern forest. For interior longleaf pine woodland and longleaf pine plantations, prescribed fire would be applied to approximately 250 acres every few years to help reduce encroachment of hardwoods and support a more diverse groundcover. No management of planted loblolly pine stands to restore to longleaf pine historically found in the watershed would occur. There would be no management of invasive or exotic species within the refuge boundaries.

Genetic and population monitoring of Georgia aster that began in 2012 by the Atlanta Botanical Garden will continue. Ecological Services (FWS) would monitor and provide recommendations for management opportunities for Georgia rockcress or glades, however there would be no management implemented.

There would be no active management by the refuge of federally-listed fish, mussels, and snails, with the exception of management via communication and education with local landowners about sedimentation and nutrient loading of aquatic habitats and providing sediment control through regular road maintenance of River Trace Road. Additionally, we would coordinate access to potential aquatic animal release sites by the State or other partners for reintroduction purposes.

With the exception of occasional surveys and periodic management activities in select pine-dominated forest stands, no additional management would likely be conducted for migratory birds. For the endangered gray bat, surveys would be conducted sporadically.

Visitor Services

All hunting, fishing, environmental education, interpretation, wildlife observation, and wildlife photography opportunities would remain the same. Canoeing and kayaking would continue to occur on the refuge. The concrete basin used to launch boats upstream of the refuge would not be replaced if damaged.

Resource Protection

Several water resource management activities would likely continue. Currently, four water quality monitoring points are sampled quarterly (testing for heavy metals) as part of mine reclamation efforts. Testing would continue to occur from 2013 through 2015. In terms of protecting lands, the refuge would continue to explore conservation options with only willing landowners within acquisition boundary as funding and opportunities arise. These could include fee-title purchases or less-than-fee options, such as easement purchases, management agreements, etc.

Currently, there are no known cultural resources, and a comprehensive assessment would probably not be conducted. However, if sites are identified, the refuge will ensure cultural resource management and protection strategies are implemented.

Refuge Administration

The refuge manager would continue to be stationed in Anniston, AL, with oversight duties also including Mountain Longleaf and Watercress Darter NWRs. A deputy manager position would likely not be filled. The zone officer would continue to conduct periodic law enforcement patrols and respond to reported incidents on the refuge.

On an as-needed basis, work crews from Wheeler NWR and possibly other refuges would periodically maintain and repair roads and unpaved parking areas, replace culverts, and maintain boundary markers. The refuge would solicit the help of volunteers to assist with maintenance of trails and repairing benches, etc. No facilities would be built on or near the refuge under this alternative.

The refuge would continue relationships with current partners to expand the refuge's capacity to protect and monitor biological resources, implement habitat improvement projects, enhance interaction and education of refuge visitors through on and off site events and encourage cooperative programs with academic institutions and nongovernmental organizations

Alternative B: Expand Habitat and Wildlife Management (Proposed Alternative)

Wildlife and Habitat Management

The refuge would monitor the health and distribution of the Cahaba Lily population and work to educate the public about the fragility of these habitats to human disturbance. We would chemically control alligator weed on an annual basis.

The refuge would re-inventory and create maps for the following habitats: Beech, oak, laurel and azalea forest; Cahaba riverwash herbaceous vegetation; canebrake; oak, beech and sedge forest; oak, hickory, and iris forest; oak, holly, and sparkleberry forest; and tuliptree and sensitive fern forest. The refuge would work to re-establish viable canebrake communities.

For interior longleaf pine woodland; loblolly pine plantation; and longleaf pine plantation we would designate stand conditions for restoration purposes and reestablish a recurring fire regime. Surveys would be conducted to determine if glades habitat exists with the refuge boundary. The refuge would implement control measures and monitoring of invasive plant species (Chinese Privet, Alligator Weed, Kudzu, Mimosa, etc.) as appropriate.

For Georgia aster, we would work with partners to conduct additional surveys and create a GIS database to map Georgia aster distribution. We would work with partners to continue surveys for Georgia rockcress and implement management strategies (including timber management and invasive species removal) to increase population size and the number of locations.

The refuge would develop an educational program and evaluate overutilization of recreational use on the refuge and restore stream habitat that potentially impacts federally-listed mussels, snails, and fish. We would also work with partners to identify and provide access for reintroductions of these species.

For neotropical migratory birds, we would resume biotic inventories utilizing refuge staff, local universities and partners. Habitats would be restored for focal species where appropriate. In addition, use of prescribed fire would be utilized to improve conditions for focal species that are dependent upon pine-dominated habitats.

The refuge would inventory and monitor for gray bats, bald eagles, and other surrogate species.

Visitor Services

Opportunities for wildlife observation, wildlife photography, environmental education, and interpretation would be expanded. The refuge would maintain bicycle riding opportunities and the current launch site for canoeing and kayaking.

Resource Protection

The refuge would participate as stakeholder on regional water quality improvement efforts within the upper Cahaba Basin; work to improve water quality of refuge tributary streams through partnerships with adjacent land owners; and establish cooperative programs and partnerships with the University of Alabama for lands along the western refuge boundary. The refuge would also install a stream gage within the refuge boundary. Testing would continue to occur on four water quality monitoring points as part of mine reclamation efforts.

We would work with partners to identify and provide assistance to landowners to conserve priority lands within the Cahaba River watershed by providing long term protection of valued resources within the watershed. The refuge would work with the regional archaeologist to complete a comprehensive historical and archaeological resource survey.

Refuge Administration

Seven additional complex staff would be needed to carry out the proposed projects. These positions include: An assistant refuge manager, biologist, equipment operator, park ranger, forester, law enforcement officer and biological technician.

The refuge would improve River Trace Road (e.g. install low water crossings and culverts, improve road surface, etc.), protect the River Trace Road from erosion (undercutting by river), and improve Belcher Road through regular maintenance.

No facilities would be built on or near the refuge however, a new complex office and maintenance shop would be constructed in Anniston, AL.

The refuge would train volunteers to conduct interpretive programs (emphasizing the need for wildlife and habitat and wildlife management) and implement projects (interpretive signs, invasive species control, biological monitoring, etc.). The volunteer program would be expanded to include an Americorp team.

Alternative C: Emphasize Natural and Primitive Processes

Wildlife and Habitat Management

Management of riverine and Cahaba lily/water willow shoals habitats would remain the same as Alternative A. For Beaver Pond, we would evaluate feasibility for restoring its natural hydrology.

There would be no change in management for the following habitats: Beech, oak, laurel and azalea forest; Cahaba riverwash herbaceous vegetation; canebrake; oak, beech and sedge forest; oak, hickory, and iris forest; oak, holly, and sparkleberry forest; and tuliptree and sensitive fern forest. We would replace planted loblolly pine plantation stands, with longleaf pine, on an opportunistic basis. For interior longleaf pine woodland and longleaf pine plantation, we would use prescribed fire only to minimize threat of wildfire. There would be no surveys conducted for glades and no active management for Georgia aster.

Management for federally listed aquatic species, neotropical migratory birds, gray bat, bald eagle, and other surrogate species would be the same as under Alternative B.

Visitor Services

River Trace Road would be closed to motor vehicles and converted to a trail. We would work with partners to develop and present educational programs that emphasize the role of natural ecological processes in shaping wildlife habitats.

We would develop interpretive materials and messages that emphasize the role of natural and primitive processes in shaping wildlife habitats. We would remove the concrete basin that is used to launch canoes and kayaks.

Resource Protection

For water quality, management would be similar to Alternative B, but we would also ensure that mine tailings do not contaminate groundwater through removal or other means. We would restore the natural hydrology on the refuge in areas where there is the greatest need.

Land protection efforts would focus on tracts within the acquisition boundary based on their potential role in creating a more connected and functional ecosystem.

Refuge Administration

Under this alternative, the following three additional staff would be required: Biologist, biological technician, and equipment operator.

We would evaluate which road-side ditches and culverts would need to be altered to restore the former hydrology and reduce sedimentation. No facilities would be leased, acquired, or built under this alternative.

Volunteers and Other Partnerships

We would offer our volunteers training to conduct interpretive programs that emphasize the role of natural and primitive processes in shaping wildlife habitat.

Next Step

After the comment period ends, we will analyze the comments and address them in the Final CCP.

Public Availability of Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (16 U.S.C. 668dd et seq.).

Dated: October 14, 2015.
Richard P. Ingram,
Acting Regional Chief, National Wildlife Refuge System.

[FR Doc. 2015-26614 Filed 10-19-15; 8:45 am]

BILLING CODE 4333-15-P